DEPARTMENT OF HOMELAND SECURITY

Federal Emergency Management Agency

[Docket ID FEMA-2017-0002; Internal Agency Docket No. FEMA-B-1721]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 24, 2017.
Roy E. Wright,
Deputy Associate Administrator for Insurance and Mitigation, Department of Homeland Security, Federal Emergency Management Agency.

State and county | Location and case No. | Chief executive officer of community | Community map repository | Online location of letter of map revision | Effective date of modification | Community No.
Colorado: Denver | City and County of Denver (17-08-0150P) | The Honorable Michael Hancock, Mayor, City and County of Denver, 1437 Bannock Street, Room 350, Denver, CO 80202 | Department of Public Works, 201 West Colfax Avenue, Denver, CO 80202 | http://www.msc.fema.gov/lomc | Aug. 11, 2017 | 080046
Florida: | Duval | City of Jacksonville (17-04-0145P) | The Honorable Lenny Curry, Mayor, City of Jacksonville, 117 West Duval Street, Suite 400, Jacksonville, FL 32202 | Development Services Department, 214 North Hogan Street, Suite 2100, Jacksonville, FL 32202 | http://www.msc.fema.gov/lomc | Jul. 19, 2017 | 120077
Lee | City of Bonita Springs (17-04-0901P) | The Honorable Peter Simmons, Mayor, City of Bonita Springs, 9101 Bonita Beach Road, Bonita Springs, FL 34135 | Community Development Department, 9220 Bonita Beach Road, Bonita Springs, FL 34135 | http://www.msc.fema.gov/lomc | Aug. 9, 2017 | 120680
Lee | City of Bonita Springs (17-04-2066P) | The Honorable Peter Simmons, Mayor, City of Bonita Springs, 9101 Bonita Beach Road, Bonita Springs, FL 34135 | Community Development Department, 9220 Bonita Beach Road, Bonita Springs, FL 34135 | http://www.msc.fema.gov/lomc | Aug. 11, 2017 | 120680
Lee | City of Sanibel (17-04-0705P) | The Honorable Kevin Ruane, Mayor, City of Sanibel, 800 Dunlop Road, Sanibel, FL 33957 | Planning and Code Enforcement Department, 800 Dunlop Road, Sanibel, FL 33957 | http://www.msc.fema.gov/lomc | Aug. 11, 2017 | 120402
Monroe | Unincorporated areas of Monroe County (17-04-0652P) | The Honorable George Neugent, Mayor, Monroe County Board of Commissioners, 25 Ships Way, Big Pine Key, FL 33043 | Monroe County Building Department, 2798 Overseas Highway, Marathon, FL 33050 | http://www.msc.fema.gov/lomc | Aug. 4, 2017 | 125129
St. Johns | Unincorporated areas of St. Johns County (17-04-0145P) | The Honorable James K. Johns, Chairman, St. Johns County Board of Commissioners, 500 San Sebastian View, St. Augustine, FL, 32084 | St. Johns County Building Services Division, 4040 Lewis Speedway, St. Augustine, FL, 32084 | http://www.msc.fema.gov/lomc | Jul. 19, 2017 | 125147
Oklahoma: | Oklahoma | City of Edmond (16-06-3164P) | The Honorable Charles Lamb, Mayor, City of Edmond, P.O. Box 2970, Edmond, OK 73083 | Engineering Department, 10 South Littler Avenue, Edmond, OK 73084 | http://www.msc.fema.gov/lomc | Aug. 7, 2017 | 400252
Tulsa | City of Bixby (16-06-2420P) | The Honorable John Easton, Mayor, City of Bixby, P.O. Box 70, Bixby, OK 74008 | City Hall, 116 West Needles Avenue, Bixby, OK 74008 | http://www.msc.fema.gov/lomc | Aug. 14, 2017 | 400207
South Carolina: Clarendon | Unincorporated areas of Clarendon County (16-04-7377P) | The Honorable Dwight L. Stewart, Chairman, Clarendon County Council, 411 Sunset Drive, Manning, SC 29102 | Clarendon County Planning Commission, 411 Sunset Drive, Manning, SC 29102 | http://www.msc.fema.gov/lomc | Jul. 14, 2017 | 450051
Texas: | Bexar | City of San Antonio (17-06-0117P) | The Honorable Ivy R. Taylor, Mayor, City of San Antonio, P.O. Box 839966, San Antonio, TX 78283 | Transportation and Capital Improvements Department, Stormwater Division, 1901 South Alamo Street, 2nd Floor, San Antonio, TX 78204 | http://www.msc.fema.gov/lomc | Aug. 10, 2017 | 480045
Bexar | Unincorporated areas of Bexar County (17-06-0117P) | The Honorable Nelson W. Wolff, Bexar County Judge, 101 West Nueva Street, 10th Floor, San Antonio, TX 78205 | Bexar County Public Works Department, 233 North Pecos-La Trinidad Street, Suite 420, San Antonio, TX 78207 | http://www.msc.fema.gov/lomc | Aug. 10, 2017 | 480035
Dallas | City of Rowlett (16-06-3341P) | The Honorable Todd W. Gottel, Mayor, City of Rowlett, 4000 Main Street, Rowlett, TX 75088 | City Hall, 4000 Main Street, Rowlett, TX 75088 | http://www.msc.fema.gov/lomc | Aug. 11, 2017 | 480185
Ellis | City of Waxahachie (17-06-0456P) | The Honorable Kevin Strength, Mayor, City of Waxahachie, 401 South Rogers Street, Waxahachie, TX 75165 | Municipal Court, 101 West Main Street, Waxahachie, TX 75165 | http://www.msc.fema.gov/lomc | Aug. 9, 2017 | 480211
Rockwall | City of Rockwall (17-06-0142P) | The Honorable Jim Pruitt, Mayor, City of Rockwall, 385 South Goliad Street, Rockwall, TX 75087 | City Hall, 385 South Goliad Street, Rockwall, TX 75087 | http://www.msc.fema.gov/lomc | Aug. 14, 2017 | 480547
Utah: | Kane | City of Kanab (16-08-1149P) | The Honorable Robert D. Houston, Mayor, City of Kanab, 26 North 100 East, Kanab, UT 84741 | City Hall, 26 North 100 East, Kanab, UT 84741 | http://www.msc.fema.gov/lomc | Aug. 11, 2017 | 490085
Kane | Unincorporated areas of Kane County (16-08-1149P) | The Honorable Dirk Clayson, Chairman, Kane County Board of Commissioners, 76 North Main Street, Kanab, UT 84741 | Kane County Recorders Office, 76 North Main Street, Kanab, UT 84741 | http://www.msc.fema.gov/lomc | Aug. 11, 2017 | 490083

[FR Doc. 2017-12989 Filed 6-21-17; 8:45 am]

BILLING CODE 9110-12-P